DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Procedures for Acceptance or Rejection of a Rated Order.

OMB Control Number: 0694-0092.

Form Number(s): N/A.

Type of Request: Regular submission (extension of a currently approved information collection).

Burden Hours: 21,380.

Number of Respondents: 734,650.

Average Hours per Response: 1 minute for accepted orders; 10 minutes for rejected orders; and 15 minutes for delayed orders.

Needs and Uses: This collection involves the exchange of rated order information between customers and suppliers. Exchange of this information and recordkeeping are necessary for administration and enforcement of delegated authority under the Defense Production Act of 1950, as amended (50 U.S.C. App. 2061, et seq.) and the Selective Service Act of 1948 (50 U.S.C. App. 468). Any person (supplier) who receives a priority rated order under Defense Priorities and Allocations System regulation (15 CFR 700) must notify the customer of acceptance or rejection of that order within a specified period of time. Also, if shipment against a priority rated order will be delayed, the supplier must immediately notify the customer.

Affected Public: Business or other for-profit organizations.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, e-mail to Jasmeet_K._Seehra@omb.eop.gov, or fax to (202) 395-5167.

Dated: August 10, 2011.
Gwellnar Banks,
Management Analyst, Office of the Chief Information Officer.

[FR Doc. 2011-20718 Filed 8-15-11; 8:45 am]

BILLING CODE 3510-33-P